FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than January 13, 2016.

A. Federal Reserve Bank of Atlanta (Chapelle Davis, Assistant Vice President) 1000 Peachtree Street NE., Atlanta, Georgia 30309:

1. Andrew Charles Heaner, Atlanta, Georgia; to retain voting shares of Heritage First Bancshares, Inc., and thereby indirectly retain voting shares of Heritage First Bank, both in Rome, Georgia.

B. Federal Reserve Bank of Minneapolis (Jacquelyn K. Brunmeier, Assistant Vice President) 90 Hennepin Avenue, Minneapolis, Minnesota 55480-0291:

1. Richard Pedersen, Everett, Washington; to retain voting shares of Flathead Lake Bancorporation, Inc., and thereby indirectly retain voting shares of First Citizens Bank of Polson, National Association, both in Polson, Montana.

Board of Governors of the Federal Reserve System, December 24, 2015.
Michael J. Lewandowski,
Associate Secretary of the Board.

[FR Doc. 2015-32837 Filed 12-29-15; 8:45 am]

BILLING CODE 6210-01-P